DEPARTMENT OF COMMERCE

National Oceanic and Atmospheric Administration

RIN 0648-XD217

Fisheries of the South Atlantic; South Atlantic Fishery Management Council (SAFMC); Public Meeting

AGENCY: National Marine Fisheries Service (NMFS), National Oceanic and Atmospheric Administration (NOAA), Commerce.

ACTION: Notice of a public meeting.

SUMMARY: The South Atlantic Fishery Management Council (SAFMC) will hold a meeting of Golden Crab Advisory Panel (AP), in Dania Beach, FL.

DATES: The meeting will be held on Friday, May 2, 2014, from 1 p.m. until 5 p.m.

ADDRESSES: Meeting address: The meeting will be held at the Fairfield Inn & Suites Marriott, 2081 Griffin Road, Dania Beach, FL 33312; telephone: (954) 981-2700; fax: (954) 981-9125.

Council address: South Atlantic Fishery Management Council, 4055 Faber Place Drive, Suite 201, N. Charleston, SC 29405.

FOR FURTHER INFORMATION CONTACT: Kim Iverson, Public Information Officer, SAFMC; telephone: (843) 571-4366 or toll free: (866) SAFMC-10; fax: (843) 769-4520; email: kim.iverson@safmc.net.

SUPPLEMENTARY INFORMATION: The items of discussion in the AP's agenda are as follows:

Agenda for Friday, May 2, 2014

1. Approve the agenda and the meeting minutes from January 31, 2013.

2. Receive an overview of Golden Crab Amendment 9, pertaining to accountability measures (AMs). Discuss the amendment and make recommendations.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for auxiliary aids should be directed to the council office (see ADDRESSES) 3 days prior to the meeting.

Note: The times and sequence specified in this agenda are subject to change.

Authority: 16 U.S.C. 1801 et seq.

Dated: April 8, 2014.
Tracey L. Thompson,
Acting Deputy Director, Office of Sustainable Fisheries, National Marine Fisheries Service.

[FR Doc. 2014-08146 Filed 4-10-14; 8:45 am]

BILLING CODE 3510-22-P